DEPARTMENT OF TRANSPORTATION

Federal Motor Carrier Safety Administration

[Docket No. FMCSA-2025-0326]

Motor Carrier Safety Advisory Committee; Membership

AGENCY: Federal Motor Carrier Safety Administration (FMCSA), U.S. Department of Transportation (DOT).

ACTION: Notice; solicitation of nominations for membership.

SUMMARY: The Department solicits nominations for membership to serve on the Motor Carrier Safety Advisory Committee (MCSAC). MCSAC provides advice and recommendations to the Secretary of Transportation (the Secretary) through the Administrator of FMCSA about needs, objectives, plans, approaches, content, and accomplishments of the motor carrier safety programs carried out by the Administration and motor carrier safety regulations.

DATES: Nominations for MCSAC membership must be received on or before February 23, 2026.

ADDRESSES: All nomination materials should refer to the docket number above and be submitted by one of the following methods:

• Federal Rulemaking Portal: https://www.regulations.gov. Follow the online instructions for submitting comments.

• Mail: Dockets Operations, U.S. Department of Transportation, 1200 New Jersey Avenue SE, West Building, Ground Floor, Washington, DC 20590-0001.

• Hand Delivery: 1200 New Jersey Avenue SE, West Building, Ground Floor, Washington, DC, between 9 a.m. and 5 p.m. ET, Monday through Friday, except Federal holidays.

FOR FURTHER INFORMATION CONTACT: Larry W. Minor, Associate Administrator for Policy, larry.minor@dot.gov, (202) 366-4012.

SUPPLEMENTARY INFORMATION: MCSAC was established by the Secretary on September 8, 2006, in accordance with section 4144 of the Safe, Accountable, Flexible, Efficient Transportation Equity Act: A Legacy for Users, and amended by section 23003 of the Infrastructure Investment and Jobs Act, to provide FMCSA advice and recommendations to the Secretary through the Administrator of FMCSA on the needs, objectives, plans, approaches, content, and accomplishments of motor carrier safety programs and motor carrier safety regulations. MCSAC operates in accordance with the Federal Advisory Committee Act, 5 U.S.C. ch. 10, under the terms of the MCSAC charter, last renewed on December 18, 2025.

MCSAC will be continuing, but subject to renewal of the charter every 2 years. The MCSAC is expected to meet 2 times per year. Unless otherwise required by law or approved by the Secretary, all meetings will be held virtually.

In this notice, the Department is soliciting nominations for membership to MCSAC. MCSAC shall report to the Secretary through the Administrator of FMCSA and comprise no more than 20 members appointed by the Secretary for 2-year terms. Members will be selected from among individuals who are not employees of FMCSA and who are specially qualified to serve on MCSAC based on their education, training, or experience. The members will include representatives of the motor carrier industry, including small business motor carriers and individual commercial motor vehicle drivers, safety advocates, and safety enforcement officials. Representatives of a single enumerated interest group may not constitute a majority of the MCSAC members. The Secretary will designate a chairman and vice-chairman of the MCSAC from among the members. Members must not be officers or employees of the Federal Government and will serve without pay.

Past members of the advisory committee are welcome to apply. The Department is interested in ensuring membership is balanced fairly in terms of the points of view represented and the functions to be performed by the advisory committee.

Request for Nominations

Process and Deadline for Submitting Nominations

Qualified individuals can self-nominate or be nominated by any individual or organization. To be considered for MCSAC, nominators should submit the following information:

(1) Name, title, and relevant contact information (including phone, fax, and email address) of the individual requesting consideration;

(2) A letter of support from a company, union, trade association, academic, or nonprofit organization on letterhead containing a brief description why the nominee should be considered for membership;

(3) A short biography of nominee, including professional and academic credentials;

(4) An affirmative statement that the nominee meets all MCSAC eligibility requirements.

Please do not send company, trade association, or organization brochures or any other information. Materials submitted should total two pages or less. Should more information be needed, DOT staff will contact the nominee, obtain information from the nominee's past affiliations, or obtain information from publicly available sources, such as the internet.

Nominations must be received on or before February 23, 2026. Nominees selected for appointment to MCSAC will be notified by return email and by a letter of appointment.

Issued in Washington, DC.
Derek D. Barrs,
Administrator.

[FR Doc. 2026-01156 Filed 1-21-26; 8:45 am]

BILLING CODE 4910-EX-P